DEPARTMENT OF DEFENSE

Notice of Intent To Prepare an Environmental Impact Statement for the Main Operating Base 2 (MOB-2) for the Beddown of KC-46A Tanker Aircraft

AGENCY: Department of the Air Force, DOD.

ACTION: Notice of Intent.

SUMMARY: The National Guard Bureau (NGB) is issuing this notice to advise the public of their intent to prepare an Environmental Impact Statement (EIS) for the Main Operating Base 2 (MOB-2) for the beddown of KC-46A tanker aircraft. The EIS will assess the potential environmental consequences of various alternatives of bedding down KC-46A tanker aircraft, associated infrastructure, and personnel in support of the MOB-2 at existing Air National Guard (ANG) installations within the continental United States.

The MOB-2 squadron would consist of 12 KC-46A that would replace an existing fleet of KC-135R aircraft. The KC-46A would continue supporting the mission of providing worldwide refueling, cargo, and aeromedical evacuation support. The proposed basing alternatives for MOB-2 include:

• 190 Air Refueling Wing (ARW), Forbes Air Guard Station (AGS), Kansas

• 108 Wing, Joint Base McGuire-Dix-Lakehurst, New Jersey

• 157 ARW, Pease AGS, New Hampshire

• 171 ARW, Pittsburgh AGS, Pennsylvania

• 121 ARW, Rickenbacker AGS, Ohio

Scoping: To effectively define the full range of issues and concerns to be evaluated in the EIS, the NGB is soliciting scoping comments from interested local, state, and federal agencies and interested members of the public. The NGB will hold a series of scoping meetings to inform the public as well as to solicit comments and concerns about the proposal. Scoping meetings will be held in the local communities near the alternative installations. The scheduled dates, times, locations, and addresses for the meetings will also be published in local newspapers a minimum of 15 days prior to the scoping meeting at each location.

DATES: The NGB intends to hold scoping meetings from 6:00 p.m. to 9:00 p.m. in the following communities on the following dates:

• Tuesday, June 4, Plumsted Fire District #1 Fire Station, 59 Main St., New Egypt, New Jersey.

• Tuesday, June 4, Township of Moon Municipal Building, 1000 Beaver Grade Rd., Moon Township, Pennsylvania.

• Thursday, June 6, Portsmouth Public Library, Levensen Community Meeting Room, 175 Parrott Ave., Portsmouth, New Hampshire.

• Thursday, June 6, Rickenbacker International Airport Terminal, 7161 Second St., Columbus, Ohio.

• Thursday, June 20, Museum of the Kansas National Guard, 6700 SW. Topeka Blvd., Topeka, Kansas.

SUPPLEMENTARY INFORMATION: The project Web site provides more information on the Environmental Impact Analysis Process and can also be used to submit scoping comments. Scoping comments may also be submitted by mail to the address listed below. To ensure the NGB has sufficient time to consider public comments in preparation of the Draft EIS, scoping comments must be submitted no later than June 10, 2013.

FOR FURTHER INFORMATION CONTACT: Mr. Robert Dogan, National Guard Bureau, NGB/A7AM, 3501 Fetchet Avenue, Joint Base Andrews, Maryland 20762-5157.

Henry Williams Jr.,
Acting Air Force Federal Register Liaison Officer.

[FR Doc. 2013-11799 Filed 5-16-13; 8:45 am]

BILLING CODE 5001-10-P